OFFICE OF SCIENCE AND TECHNOLOGY POLICY

Public Access Policies for Science and Technology Funding Agencies Across the Federal Government

AGENCY: Office of Science and Technology Policy (OSTP), Executive Office of the President.

ACTION: Notice; request for public comment.

SUMMARY: With this notice, the Office of Science and Technology Policy (OSTP) within the Executive Office of the President, requests input from the community regarding enhancing public access to archived publications resulting from research funded by Federal science and technology agencies. This RFI will be active from December 10, 2009 to January 7, 2010. Respondents are invited to respond online via the Public Access Policy Forum at http://www.whitehouse.gov/open, or may submit responses via electronic mail. Responses will be re-posted on the online forum. Instructions and a timetable for daily blog topics during this period are described at http://www.whitehouse.gov/open.

DATES: Comments must be received by January 7, 2010.

ADDRESSES: Submit comments by one of the following methods:

Public Access Policy Forum: http://www.whitehouse.gov/open.

Via E-mail: publicaccess@ostp.gov.

Mail: Office of Science and Technology Policy, Attn: Open Government Recommendations, 725 17th Street, Washington, DC 20502.

Comments submitted in response to this notice could be made available to the public online or by alternative means. For this reason, please do not include in your comments information of a confidential nature, such as sensitive personal information or proprietary information. If you submit an e-mail comment, your e-mail address will be captured automatically and included as part of the comment that is placed in the public docket and made available on the Internet.

FOR FURTHER INFORMATION CONTACT: Dr. Diane DiEuliis, Assistant Director, Life Sciences, Office of Science and Technology Policy, Attn: Open Government, 725 17th Street, NW., Washington, DC 20502, 202-456-6059.

SUPPLEMENTARY INFORMATION:

I. Background

On his first day in office, the President issued a Memorandum on Transparency and Open Government that called for an “unprecedented level of openness in government” and the rapid disclosure of one of our nation's great assets—information. Moreover, the Administration is dedicated to maximizing the return on Federal investments made in R&D. Consistent with this policy, the Administration is exploring ways to leverage Federal investments to increase access to information that promises to stimulate scientific and technological innovation and competitiveness. The results of government-funded research can take many forms, including data sets, technical reports, and peer-reviewed scholarly publications, among others. This RFI focuses on approaches that would enhance the public's access to scholarly publications resulting from research conducted by employees of a Federal agency or from research funded by a Federal agency.

Increasing public access to scholarly publications resulting from federally funded research may enhance the return on federal investment in research in the following ways:

(a) More timely, easier, and less costly access to scholarly publications resulting from federally funded research for commercial and noncommercial scientists has the potential to promote advances in science and technology, thereby enhancing the return on federal investment in research;

(b) Creating an easily searchable permanent electronic archive of scholarly publications resulting from federally funded research has the potential to allow cross-referencing, continuous long-term access, and retrieval of information whose initial value may only be theoretical, but may eventually have important applications;

(c) Ensuring that the federal agencies that support this research can access the published results has the potential to promote improved cross-government coordination of government funding, and thus improved management of the federal research investments;

(d) More timely, easier, and less costly access to scholarly publications resulting from federally funded research for educators and students, and “end users” of research, such as clinicians, patients, farmers, engineers, and practitioners in virtually all sectors of the economy, has the potential to promote the diffusion of knowledge.

The Executive Branch is considering ways to enhance public access to peer reviewed papers arising from all federal science and technology agencies. One potential model, implemented by the National Institutes of Health (NIH) pursuant to Division G, Title II, Section 218 of Pub. L. 110-161 (http://publicaccess.nih.gov/) requires that all investigators funded by the NIH submit an electronic version of their final, peer-reviewed manuscript upon acceptance for publication no later than 12 months after the official date of publication. Articles collected under the NIH Public Access Policy are archived in PubMed Central and linked to related scientific information contained in other NIH databases. More information about PubMed Central is available: http://www.pubmedcentral.nih.gov/about/faq.html.

The NIH model has a variety of features that can be evaluated, and there are other ways to offer the public enhanced access to peer-reviewed scholarly publications. The best models may influenced by agency mission, the culture and rate of scientific development of the discipline, funding to develop archival capabilities, and research funding mechanisms.

II. Invitation To Comment

Input is welcome on any aspect of expanding public access to peer reviewed publications arising from federal research. Questions that individuals may wish to address include, but are not limited to, the following (please respond to questions individually):

1. How do authors, primary and secondary publishers, libraries, universities, and the federal government contribute to the development and dissemination of peer reviewed papers arising from federal funds now, and how might this change under a public access policy?

2. What characteristics of a public access policy would best accommodate the needs and interests of authors, primary and secondary publishers, libraries, universities, the federal government, users of scientific literature, and the public?

3. Who are the users of peer-reviewed publications arising from federal research? How do they access and use these papers now, and how might they if these papers were more accessible? Would others use these papers if they were more accessible, and for what purpose?

4. How best could federal agencies enhance public access to the peer-reviewed papers that arise from their research funds? What measures could agencies use to gauge whether there is increased return on federal investment gained by expanded access?

5. What features does a public access policy need to have to ensure compliance?

6. What version of the paper should be made public under a public access policy (e.g., the author's peer reviewed manuscript or the final published version)? What are the relative advantages and disadvantages to different versions of a scientific paper?

7. At what point in time should peer-reviewed papers be made public via a public access policy relative to the date a publisher releases the final version? Are there empirical data to support an optimal length of time? Should the delay period be the same or vary for levels of access (e.g., final peer reviewed manuscript or final published article, access under fair use versus alternative license), for federal agencies and scientific disciplines?

8. How should peer-reviewed papers arising from federal investment be made publiclyavailable? In what format should the data be submitted in order to make it easy to search, find, and retrieve and to make it easy for others to link to it? Are there existing digital standards for archiving and interoperability to maximize public benefit? How are these anticipated to change?

9. Access demands not only availability, but also meaningful usability. How can the federal government make its collections of peer-reviewed papers more useful to the American public? By what metrics (e.g., number of articles or visitors) should the Federal government measure success of its public access collections? What are the best examples of usability in the private sector (both domestic and international)? And, what makes them exceptional? Should those who access papers be given the opportunity to comment or provide feedback?

Dated: December 3, 2009.
M. David Hodge,
Operations Manager.

[FR Doc. E9-29322 Filed 12-8-09; 8:45 am]

BILLING CODE 3170-W7-P